DEPARTMENT OF THE TREASURY

Office of Foreign Assets Control

31 CFR Part 528

Publication of International Criminal Court-Related Sanctions Regulations Web General License 10

AGENCY: Office of Foreign Assets Control, Treasury.

ACTION: Publication of a web general license.

SUMMARY: The Department of the Treasury's Office of Foreign Assets Control (OFAC) is publishing a general license (GL) issued pursuant to the International Criminal Court-Related Sanctions Regulations: GL 10.

DATES: GL 10 was issued on September 4, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov.

Background

On September 4, 2025, OFAC issued GL 10 to authorize certain transactions otherwise prohibited by the International Criminal Court-Related Sanctions Regulations, 31 CFR part 528. This GL expired on October 4, 2025. This GL was made available on OFAC's website (https://ofac.treasury.gov) when it was issued. The text of this GL is provided below.

OFFICE OF FOREIGN ASSETS CONTROL

International Criminal Court-Related Sanctions Regulations

31 CFR Part 528

GENERAL LICENSE NO. 10

Authorizing the Wind Down of Transactions Involving Certain Persons Blocked on September 4, 2025

(a) Except as provided in paragraph (b) of this general license, all transactions prohibited by the International Criminal Court-Related Sanctions Regulations (ICCSR), 31 CFR part 528, that are ordinarily incident and necessary to the wind down of any transaction involving one or more of the following blocked persons are authorized through 12:01 a.m. eastern daylight time, October 4, 2025, provided that any payment to a blocked person is made into a blocked interest-bearing account located in the United States, in accordance with the ICCSR:

(1) Al Haq Law in the Service of Mankind;

(2) Al Mezan Center for Human Rights;

(3) Palestinian Centre for Human Rights; or

(4) Any entity in which one or more of the above persons own, directly or indirectly, individually or in the aggregate, a 50 percent or greater interest.

(b) This general license does not authorize any transactions otherwise prohibited by the ICCSR, including transactions involving any person blocked pursuant to the ICCSR other than the blocked persons described in paragraph (a) of this general license, unless separately authorized.

Bradley T. Smith,

Director, Office of Foreign Assets Control.

Dated: September 4, 2025.
Bradley T. Smith,
Director, Office of Foreign Assets Control.

Editorial Note: This document was received for publication by the Office of the Federal Register on December 10, 2025.

[FR Doc. 2025-22656 Filed 12-11-25; 8:45 am]

BILLING CODE 4810-AL-P